DEPARTMENT OF JUSTICE

Notice of Lodging of Consent Decree Under Clean Air Act

Under 28 CFR 50.7, notice is hereby given that on March 11, 2003, the United States lodged a proposed Consent Decree between the United States, the State of Arkansas and Lion Oil Company (“Lion Oil”) with the United States District Court for the Western District of Arkansas, El Dorado Division, in the case of United States, et. al v. Lion Oil Company, Civil Action Case No. 03-1028.

In a complaint that was filed simultaneously with the Consent Decree, the United States sought injunctive relief and penalties against Lion Oil pursuant to section 113(b) of the Clean Air Act, 42 U.S.C. 7413(b), for alleged Clean Air Act violations at Lion Oil's refinery located in El Dorado, Arkansas.

Under the settlement, Lion Oil will implement innovative pollution control technologies to greatly reduce emissions of nitrogen oxides (“NO2”), sulfur dioxide (“SO2”), particulate matter “PM”), carbon monoxide (“CO”), and benzene from refinery process units and will adopt facility-wide enhanced monitoring and fugitive emission control programs. Lion Oil has estimated that this injunctive relief will cost the company approximately $17 million. In addition, Lion Oil will pay a civil penalty of $348,000, which the State of Arkansas will share, and spend more than $450,000 on supplemental environmental projects designed to reduce emissions from the refinery for settlement of the claims in the United States' complaint. Lion Oil also will perform additional injunctive relief totaling approximately $4.5 million. The State of Arkansas will join in this settlement as a signatory to the Consent Decree.

The Department of Justice will receive for a period of thirty (30) days from the date of this publication comments relating to the Consent Decree. Comments should be addressed to the Assistant Attorney General, Environmental and Natural Resources Division, P.O. Box 7611, U.S. Department of Justice, Washington, DC 20044-7611, and should refer to United States, et al., v. Lion Oil Company, D.J. Ref. 90-5-2-1-06064/1.

The Consent Decree may be examined at the Office of the United States Attorney, 6th and Rogers, Room 216, Federal Building, Fort Smith, Arkansas 72901, and at U.S. EPA Region 6, Fountain Place, 1445 Ross Avenue, Dallas, TX 75202. During the public comment period, the Consent Decree may be examined on the following Department of Justice Web site, http://www.usdoj.gov/enrd/open.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy, please enclose a check in the amount of $39.00 (25 cents per page reproduction cost) payable to the Consent Decree Library.

Robert D. Brook,
Assistant Chief, Environmental Enforcement Section, Environmental and Natural Resources Division.

[FR Doc. 03-6645 Filed 3-19-03; 8:45 am]

BILLING CODE 4410-15-M